DEPARTMENT OF STATE

[Public Notice: 11410]

Determination and Waiver of the Department of State, Foreign Operations, and Related Programs Appropriations Act, 2021 (Div. K, Pub L. 116-260) Relating to Assistance for the Independent States of the Former Soviet Union

Pursuant to the authority vested in me as Secretary of State, including by section 7046(b) of the Department of State, Foreign Operations, and Related Programs Appropriations Act, 2021 (Div. K, Pub L. 116-260) (“the Act”), and E.O. 12163, as amended by E.O. 13118, I hereby determine that it is in the national security interest of the United States to make available funds appropriated by the Act, without regard to the restriction in section 7046(b) of the Act, for Armenia, Azerbaijan, Belarus, Georgia, Moldova, Kazakhstan, the Kyrgyz Republic, Tajikistan, Turkmenistan, Ukraine, and Uzbekistan.

This Determination shall be published in the Federal Register and, along with the accompanying Memorandum of Justification, shall be reported to Congress.

Dated: March 8, 2021.
Antony J. Blinken,
Secretary of State.

[FR Doc. 2021-07795 Filed 4-15-21; 8:45 am]

BILLING CODE 4710-23-P